DEPARTMENT OF JUSTICE

Antitrust Division

Notice Pursuant to the National Cooperative Research and Production Act of 1993—Packaging Machinery Manufacturers Institute, Inc.

Notice is hereby given that, on September 14, 2004, pursuant to section 6(a) of the National Cooperative Research and Production Act of 1993, 15 U.S.C. 4301 et seq. (“the Act”), the Packaging Machinery Manufacturers Institute, Inc. (“PMMI”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Packaging Machinery Manufacturers Institute, Inc., Arlington, VA. The nature and scope of PMMI's standards development activities are: Safety standards with respect to the construction, care, and use of packaging and packaging-related converting machinery.

Additional information may be obtained from Charles F. Hayes, Director of Technical Services for the Packaging Machinery Manufacturers Institute, Inc.

Dorothy B. Fountain,
Deputy Director of Operations, Antitrust Division.

[FR Doc. 04-24569 Filed 11-2-04; 8:45 am]

BILLING CODE 4410-11-M